DEPARTMENT OF LABOR

Employment and Training Administration

[TA-W-58,336]

Kimberly-Clark Corporation Ballard Medical Products Division, Draper, UT; Notice of Termination of Investigation

Pursuant to section 221 of the Trade Act of 1974, as amended, an investigation was initiated on November 14, 2005 in response to a petition filed by a company official on behalf of workers of Kimberly-Clark Corporation, Ballard Medical Products Division, Draper, Utah.

The petitioning group of workers is covered by an active certification issued on March 10, 2005 and which remains in effect (TA-W-56,494). Consequently, further investigation in this case would serve no purpose, and the investigation has been terminated.

Signed at Washington, DC, this 9th day of December, 2005.
Richard Church,
Certifying Officer, Division of Trade Adjustment Assistance.

[FR Doc. E5-7958 Filed 12-27-05; 8:45 am]

BILLING CODE 4510-30-P